DEPARTMENT OF COMMERCE

National Institute of Standards and Technology

Notice of Government Owned Inventions Available for Licensing

AGENCY: National Institute of Standards and Technology, Commerce.

SUMMARY: The inventions listed below are owned in whole by the U.S. Government, as represented by the Department of Commerce. The inventions are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST Docket Number: 01-011US]

Title: Surface Charge Modification Within Preformed Polymer Microchannels with Multiple Applications Including Modulating Electroosmotic Flow And Creating Microarrays.

Abstract: A laser was used to modify the charge on the surface(s) of a preformed polymeric microchannel (e.g. imprinted, embossed, injection molded, ablated, etc.). It is shown that the fluid flow induced by an electric field applied along the length of the channel increases in velocity in the regions that have been exposed to the laser, therefore indicating a change in the surface charge. Furthermore, the laser can be used to create well-defined spots within the channel that have a higher surface charge than the surrounding material. These spots have been shown to selectively bind proteins in a linear or 2-dimensional microarray pattern.

[NIST Docket Number: 01-029CIP1]

Title: Mixing Reactions by Temperature Gradient Focusing.

Abstract: The invention provides a variant of temperature gradient focusing that involves analyte-ligand interactions occurring as a result of focusing one (either analyte or the ligand) and allowing interactions with the other to occur within the “focus space.” The interaction can be between biological molecules or other chemical species. Moving the focused “product” through the temperature gradient after mixing allows additional information to be inferred if the assay displays a physical property change such as melting or precipitation.

[NIST Docket Number: 01-029CIP2]

Title: Chiral Temperature Gradient Focusing.

Abstract: The invention provides a variant of temperature gradient focusing that uses chirally selective additives to modify the electrophoretic mobility of analytes thereby providing a method for focusing and separation of analytes based on their chirality.

[NIST Docket Number: 01-034US]

Title: Microfluidic Flow Manipulation Device.

Abstract: The invention relates to a new method of mixing or splitting streams in a microchannel. A pre-formed imprinted T-channel is modified by a pulsed UV-excimer laser to create a series of slanted wells at the junction. The presence of the wells leads to a high degree of lateral transport within the channel. The later transport provides rapid mixing of two confluent streams undergoing electroosmotic flow.

[NIST Docket Number: 03-008US]

Title: Micellar Gradient Focusing.

Abstract: The invention provides a method for focusing (concentrations and/or separation) based upon affinity of an analyte for a pseudostationary phase such as a micellar phase. The method works by creating a gradient in the capacity factor of the solute of interest to the micellar phase in the channel. The solute has an inherent electrophoretic mobility when free in solution. When interacting with the micelles, the solute assumes the electrophoretic mobility of the micelle. On one side of the gradient, the solutes strongly interact with the micelles and have a net mobility dominated by that of the micelles. On the other side of the gradient, the capacity factor is low and the solute assumes its native electrophoretic mobility. If the micelles are charged, a combination of electrokinetic and pressure-driven flow can be applied so that the micelles and the mobile phase move in opposite directions. Conversely, the focusing can be performed with a neutral surfactant if the analyte is changed and made to migrate in the opposite direction of the mobile phase. Under these conditions, the analyte can be made to focus at a point along the micellar gradient. Different analytes with different affinities for the micellar phase (or different electrophoretic mobilities) will focus at different points. The method provides a focusing equivalent of micellar electrokinetic chromatography.

[NIST Docket Number: 03-016/04-002US]

Title: A Direct Procedure For Classifying Image Smoothness Based on Singular Integral Operators And Fast Fourier Transform Algorithm.s

Abstract: This invention provides a class of new image deblurring procedures. These procedures are based on a reformulation of the image deblurring problem in which Lipschitz (Besov) spaces are used to calibrate the lack of smoothness in the unknown desire sharp image.

[NIST Docket Number: 04-016US]

Title: Microfluidic Platform of Arrayed Switchable Spin-Valve Elements for High-Throughput Sorting and Manipulation of Magnetic Particles and Biomelecules.

Abstract: The invention presents a microfluidic platform that incorporates an array of spin-valve elements to selectively trap, manipulate and release magnetic particles with high throughput and specificity. The array of spin-valve elements can exist in a ferromagnetic “on” state, thereby acting like mini bar magnets with local magnetic fields. The magnetic field gradients provide the trapping field to confine the magnetic particles. The spin-valve element can be turned to the antiferromagnetic “off” state where they no longer produce a local magnetic field. In the absence of the local magnetic field, the magnetic particles are released from the trap. The platform consists of a membrane that can separate the traps from the magnetic particle fluid, or it is possible to have the magnetic particle fluid on the same side of the traps. The “on/off” magnetic characteristic of these elements make it possible to apply an external global magnetic field to rotate the magnetic particles while they are confined by the spin-valve elements.

Dated: July 15, 2005.
Hratch G. Semerjian,
Acting Director.

[FR Doc. 05-14512 Filed 7-21-05; 8:45 am]

BILLING CODE 3510-13-P